DEPARTMENT OF ENERGY

Federal Energy Regulatory Commission

[Docket No. CP00-6-010]

Gulfstream Natural Gas System, L.L.C.; Notice of Application

July 29, 2003.

On July 23, 2003, Gulfstream Natural Gas System, L.L.C. (Gulfstream), 2701 Rocky Point Drive, Tampa, Florida 33607, filed an application pursuant to Section 7 of the Natural Gas Act (NGA), as amended, and the Federal Energy Regulatory Commission's (Commission) Rules and Regulations. Gulfstream requests authorization to extend the date that the previously certificated Phase II facilities must commence operation to February 21, 2006, and to phase the in-service date of the Phase II facilities so that some of the faculties comprising Phase II are placed in service earlier than the remainder of the Phase II facilities. Gulfstream states that the modifications are necessary due to changes in the Florida natural gas market, as more fully set forth in the application which is on file with the Commission and open to public inspection. This filing is available for review at the Commission or may be viewed on the Commission's Web site at http://www.ferc.gov , using the “FERRIS” link. Enter the docket number excluding the last three digits in the docket number field to access the document. For assistance, please contact FERC Online Support at FERCOnlineSupport@ferc.gov or toll-free at (866) 208-3676 or for TTY, contact (202) 502-8659.

Gulfstream requests authority to: (1) Amend ordering Paragraph B of the Commission's Order Amending Certificate, 98 FERC ¶ 61,349 (2002), to allow phasing of the in-service date of the Phase II facilities; (2) modify the Phase II initial recourse rates to reflect updated construction costs and limited modifications to the Phase II facilities; (3) adopt its negotiated rate agreement with the Florida Power & Light Company (FPL); and, (4) increase the diameter of approximately five miles of pipeline facilities from 24 to 30 inches. The estimated cost of all construction is approximately $389,050,000. Gulfstream states that the completed facilities will provide 350,000 dekatherms per day of long-term firm transportation service for two FPL electric power plant expansions. Gulfstream further states that full service to these plants is expected to commence by May 1, 2005, with initial deliveries for plant startup testing beginning by December 31, 2004. Also, Gulfstream asks that requested authorizations be granted by October 15, 2003.

Questions regarding the application may be directed to P. Martin Teague, Assistant General Counsel, Gulfstream Natural Gas System, L.L.C. , 2701 Rocky Point Drive, Tampa, Florida 33607, or call (813) 282-6609.

There are two ways to become involved in the Commission's review of this project. First, any person wishing to obtain legal status by becoming a party to the proceedings for this project should, on or before the comment date below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper; see 18 CFR 385.2001(a)(1)(iii) and the instructions on the Commission's Web site under the “e-Filing” link. The Commission strongly encourages electronic filings. Comment Date: August 19, 2003.

Dated:
Magalie R. Salas,
Secretary.

[FR Doc. 03-19830 Filed 8-4-03; 8:45 am]

BILLING CODE 6717-01-P